FEDERAL ELECTION COMMISSION

Sunshine Act Meetings

Agency: Federal Election Commission.

Date and Time: Thursday, May 11, 2017 at 10:00 a.m.

Place: 999 E Street NW., Washington, DC (ninth floor).

Status: This meeting, open to the public, has been canceled.

* * * * *

Person to Contact for Information: Judith Ingram, Press Officer, Telephone: (202) 694-1220.

Dayna C. Brown,
Secretary and Clerk of the Commission.

[FR Doc. 2017-09429 Filed 5-5-17; 11:15 am]

BILLING CODE 6715-01-P